DEPARTMENT OF EDUCATION

Final Waiver and Extension of the Project Period for the Native American Career and Technical Education Program

[Catalog of Federal Domestic Assistance (CFDA) Number: 84.101A]

AGENCY: Office of Career, Technical, and Adult Education, Department of Education.

ACTION: Final waiver and extension of the project period.

SUMMARY: For the 24-month projects originally funded in fiscal year (FY) 2013 and extended for an additional 24-months in FY 2015 under the Native American Career and Technical Education Program (NACTEP), the Secretary: Waives the requirements in Education Department regulations that generally prohibit project extensions involving the obligation of additional Federal funds; and extends the project period for the current 30 NACTEP grantees for an additional 12 months under the existing program authority. This waiver and extension will allow the 30 current NACTEP grantees to seek FY 2017 continuation awards for the project period through FY 2018.

DATES: As of August 1, 2017, the waiver and extension of the project period are finalized.

FOR FURTHER INFORMATION CONTACT: Gwen Washington by telephone at (202) 245-7790 or by email at gwen.washington@ed.gov. You may also contact Linda Mayo by telephone at (202) 245-7792 or by email at linda.mayo@ed.gov. If you use a telecommunications device for the deaf (TDD) or a text telephone (TTY), call the Federal Relay Service, toll free, at 1-800-877-8339.

SUPPLEMENTARY INFORMATION: On April 26, 2017, we published a notice in the Federal Register (82 FR 19240) proposing to waive the requirements of 34 CFR 75.261(a) and (c)(2) that generally prohibit project period extensions involving the obligation of additional Federal funds. In that notice, the Secretary also proposed to extend the NACTEP project period for up to an additional 12 months. The proposed waiver and extension of project period would enable the Secretary to provide continuation awards to the current NACTEP grantees through FY 2018 under the existing program authority.

That notice contained background information and our reasons for proposing the waiver and extension of the project period. This notice makes the waiver and extension of the project period final. Any activities carried out during the period of a NACTEP continuation award must be consistent with, or a logical extension of, the scope, goals, and objectives of the grantee's application as approved in the FY 2013 NACTEP competition. The requirements applicable to continuation awards for this competition set forth in the 2013 notice inviting applications and the requirements in 34 CFR 75.253 will apply to any continuation awards sought by the current NACTEP grantees.

We will make decisions regarding the continuation awards based on grantee program narratives, budgets and budget narratives, program performance reports, and the requirements in 34 CFR 75.253. We will not announce a new competition or make new awards in FY 2017.

The final waiver and project period extension will not exempt the current NACTEP grantees from the appropriation account closing provisions of 31 U.S.C. 1552(a), nor will it extend the availability of funds previously awarded to current NACTEP grantees. As a result of 31 U.S.C. 1552(a), appropriations available for a limited period may be used for payment of valid obligations for only five years after the expiration of their period of availability for Federal obligation. After that time, the unexpended balance of those funds is canceled and returned to the U.S. Department of the Treasury and is unavailable for restoration for any purpose (31 U.S.C. 1552(b)).

Public Comment: In response to our invitation in the proposed waiver and extension, we received 85 comments. Generally, we do not address general comments that raise concerns not directly related to the proposed waiver and extension.

There are no substantive differences between the proposed waiver and extension and the final waiver and extension.

Analysis of Comments and Discussion

Comments: All of the commenters expressed support for the proposed waiver and extension of the NACTEP project period, or the NACTEP in general. The commenters provided various reasons for their support.

Several commenters stated that continuing the NACTEP projects will assist students in completing their Career and Technical Education (CTE) programs and provide students with an opportunity to progress toward a fulfilling career. One commenter also indicated that the NACTEP has greatly assisted Tribal Colleges and Tribal communities, which directly benefit from educated students.

Another commenter indicated that the NACTEP has empowered many Tribal members with a sense of hope and promise with regard to the reality that education is attainable, where there was very little opportunity prior to the presence of the NACTEP.

One commenter stated that a continuation of the NACTEP for an additional 12 months enables a sound use of funds as these funds will support programs that are currently supporting Native American communities in need of CTE programs that improve community vitality and economic stability. The commenter also stated that a lapse of funds would create a set-back in the progress made by grantees, such as the relationship established with a local community college to provide in-demand training within Native American communities. Another commenter stated that the extension would allow their Tribe to focus on maintaining its current NACTEP-funded programs, while also capitalizing on the current momentum of service delivery through programs that are already in place and operational.

We received many comments from NACTEP students who supported the proposed waiver and extension of the project period. Students indicated that the NACTEP helped them to achieve their educational goals, which included associate degrees and certificate programs. Numerous students noted how certificates and degrees earned with the NACTEP assistance had correlated to job promotions or better career prospects. Additionally, several of these students indicated that without the NACTEP assistance of educational supplies, child care, transportation, and other financial assistance, education would not have been attainable for them.

Several students indicated that the direct assistance provided by the NACTEP resulted in students completing their CTE training. One student noted that he hoped the program could be extended so that he could obtain his certificate in leadership training.

Another student indicated that the NACTEP has been the most useful part of the student's career due to its “hands-on” and practical nature. The student stated that the NACTEP benefits the individual, the business organization, and the community at large.

We received several comments from current and former instructors who supported the proposed waiver and extension of the project period. Multiple instructors indicated that the NACTEP was positively impacting the community, as well as students. One commenter noted that the NACTEP assistance increased the cultural pride of students, which led to greater community involvement. Additionally, another commenter indicated that the NACTEP grants have enabled students to attain industry-recognized credentials and escape homelessness situations.

Another commenter stated that systems are already in place for a smooth start-up, enrollment, and pathway for both new students and students who are in the middle of their certificate programs. Additionally, this commenter indicated that the NACTEP has helped to create leaders for the Tribe, who serve as role models in informed, effective, proactive, and supportive management, which has a rippling effect throughout the Tribal community. The commenter also indicated that because of the NACTEP, many students have experienced their first college classes, and are the first in their families to do so.

Finally, some commenters noted the valuable services provided through the NACTEP to students and other community members. One commenter stated that a continuation would be the most rational approach for grantees. Another commenter stressed that Native Americans continue to face unemployment levels double that of the overall population and the NACTEP is focused on changing this.

Discussion: We appreciate the support of the commenters and agree that extending the current NACTEP grant period will allow current NACTEP grantees to continue to work toward accomplishing the goals and objectives stated in their 2013 NACTEP grant applications, including providing specialized CTE training to Native American students. We agree that it is important that there not be a lapse in programming provided by NACTEP grantees to CTE students.

Changes: None.

Waiver of Delayed Effective Date

The Administrative Procedure Act (APA) requires that a substantive rule must be published at least 30 days before its effective date, except as otherwise provided for good cause (5 U.S.C. 553(d)(3)). The Secretary has determined that a delayed effective date is unnecessary and contrary to the public interest. It is unnecessary because all of the 85 public comments we received in response to the proposed waiver and extension of project period supported our proposal, and we have not made any substantive changes to the proposal. It is contrary to the public interest because we would not be able to make timely continuation awards to the 30 current grantees with the delay. Therefore, the Secretary waives the APA's delayed effective date provision for good cause.

Regulatory Flexibility Act Certification

The Secretary certifies that the final waiver and extension and the activities required to support additional months of funding would not have a significant economic impact on a substantial number of small entities. The small entities that would be affected by this final waiver and extension are the 30 currently funded NACTEP grantees and any other potential applicants. The extension of an existing project imposes minimal compliance costs, and the activities required to support the additional years of funding would not impose additional regulatory burdens or require unnecessary Federal supervision.

Paperwork Reduction Act of 1995

This notice of final waiver and extension contains information collection requirements approved by the Office of Management and Budget (OMB) under control number 1830-0542; this final waiver and extension does not cause any changes to the approved OMB information collection.

Intergovernmental Review

The NACTEP is not subject to Executive Order 12372 and regulations in 34 CFR part 79.

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available via the Federal Digital System at: www.gpo.gov/fdsys. At this site, you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Dated: July 27, 2017.
Kim R. Ford,
Deputy Assistant Secretary for Career, Technical, and Adult Education, delegated the duties of the Assistant Secretary for Career, Technical, and Adult Education.

[FR Doc. 2017-16182 Filed 7-31-17; 8:45 am]

BILLING CODE 4000-01-P